DEPARTMENT OF DEFENSE

Department of the Air Force

Undersecretary of the Air Force, National Security Space Office; Positioning, Navigation, and Timing Architecture Industry Day To Inform Industry of the National Positioning, Navigation, and Timing Architecture and Planning by the Government for Transition to the Architecture

AGENCY: National Security Space Office (NSSO), Undersecretary of the Air Force, United States Air Force.

ACTION: Notice of meeting.

SUMMARY: The NSSO, in conjunction with the Department of Transportation Research and Innovative Technology Administration (DOT/RITA) and the Office of the Assistant Secretary of Defense for Networks and Information Integration (OASD(NII)) will be conducting an Industry Day presentation to introduce the National Positioning, Navigation, and Timing (PNT) Architecture and to discuss architecture transition planning.

DATES: The Industry Day will be held on September 16, 2008 in conjunction with the 2008 Institute of Navigation (ION) Global Navigation Satellite System (GNSS) conference. The meeting on September 16 will be held from 1-4 p.m., consisting of a two hour presentation on the National PNT Architecture pertaining to industry input, followed by a question and answer session. Interested parties may arrange follow-up discussions with government representatives at that time. Additionally, a 30-minute government overview of the National PNT Architecture will be presented at the Civil GPS Service Interface Committee (CGSIC) meeting on September 15.

ADDRESSES: The meeting location for the Industry Day on September 16 is Rooms 105 and 106 at the Savannah International Trade and Convention Center, One International Drive, Savannah, Georgia. The CGSIC meeting location on September 15 is at the Savannah Marriott Waterfront, 100 General McIntosh Road, Savannah, Georgia.

FOR FURTHER INFORMATION CONTACT: LCDR Jeffrey Vicario, (571) 432-1535, jeffrey.vicario@osd.mil.

SUPPLEMENTARY INFORMATION: DOT/RITA and OASD(NII), in coordination with other government agencies, have recently completed the development of a National Positioning, Navigation, and Timing (PNT) Architecture. The Architecture establishes the vision of U.S. global leadership in PNT, a strategy to achieve the vision, major vectors within the strategy, and recommendations to implement the vectors. The Industry Day presents an opportunity for vendors to become familiar with the PNT Architecture, to understand how it incorporates industry perspectives, to make company perspectives known to the government, and to engage in discussion with the government regarding its plans to transition to the Architecture.

Bao-Anh Trinh,
Air Force Federal Register Liaison Officer.

[FR Doc. E8-18814 Filed 8-13-08; 8:45 am]

BILLING CODE 5001-05-P